DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by January 13, 2005.

Title, Form, and OMB Number: Estuary Habitat Restoration Project Application; Eng Form 6019-R; OMB Control Number 0710-0014.

Type of Request: New.

Number of Respondents: 100.

Responses Per Respondent: 1.

Annual Responses: 100.

Average Burden Per Response: 10 hours.

Needs and Uses: The Corps will solicit applications for estuary habitat restoration projects under section 104 of the Estuary Restoration Act 2000. Requested information will include proposed project location, types and acreage of habitat to be restored, and project description including restoration techniques, project goals and expected benefits, monitoring plan, costs, and other supporting information. Project applications may be submitted either electronically or in paper format. This information is needed to select projects for funding.

Affected Public: State, local, or tribal government and not-for-profit institutions.

Frequency: Annually.

Respondents Obligation: Required to obtain or retain benefits.

OMB Desk Officer: Ms. Jacqueline Zeiher.

Written comments and recommendations on the proposed information collection should be sent to Ms. Zeiher at the Office of Management and Budget, Desk Officer for DoD, Room 10236, New Executive Office Building, Washington, DC 20503.

DOD Clearance Officer: Ms. Patricia Toppings.

Written requests for copies of the information collection proposal should be sent to Ms. Toppings, WHS/ESCD/Information Management Division, 1225 South Clark Street, Suite 504, Arlington, VA 22202-4326.

Dated: December 6, 2004.
Patricia L. Toppings,
Alternate OSD Federal Register Liaison Officer, Department of Defense.

[FR Doc. 04-27307 Filed 12-13-04; 8:45 am]

BILLING CODE 5001-06-M